NATIONAL ARCHIVES AND RECORDS ADMINISTRATION

[NARA-2014-028]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before June 12, 2014. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

FAX: 301-837-3698.

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Commerce, Economic Development Administration (DAA-0378-2014-0013, 13 items, 13 temporary items). Comprehensive grant project files created and maintained by regional offices. Information includes grant award files for public works projects, applications for economic assistance, financial reports, general correspondence, economic development files, economic development planning and feasibility studies, and routine administrative records.

2. Department of Homeland Security, U.S. Citizenship and Immigration Services (DAA-0566-2014-0003, 1 item, 1 temporary item). Cuban visa lottery participant biographical data.

3. Department of the Interior, Agency-wide (DAA-0048-2013-0001, 15 items, 15 temporary items). Administrative records that pertain to routine business functions such as operations, human resources management, financial and acquisition management, and information technology. This schedule does not pertain to Indian Fiduciary Trust records.

4. Department of Justice, Bureau of Alcohol, Tobacco, Firearms, and Explosives (DAA-0436-2012-0007, 2 items, 2 temporary items). Personnel security records including nondisclosure agreements and copies of closed case files.

5. Department of Justice, Drug Enforcement Administration (DAA-0170-2013-0004, 2 items, 2 temporary items). Investigative case files.

6. Department of Justice, Drug Enforcement Administration (DAA-0170-2014-0001, 1 item, 1 temporary item). Background intelligence materials of investigative case files.

7. Department of Justice, United States Marshals Service (DAA-0527-2013-0014, 2 items, 2 temporary items). Final audit reports and working papers of the Office of Compliance Review.

8. Department of State, Bureau of Diplomatic Security (N1-59-11-11, 21 items, 21 temporary items). Records of the Office of Protection including routine administrative files. Records also include planning and summary reports for trips and events.

9. Department of Transportation, Federal Transit Administration (N1-408-11-25, 2 items, 2 temporary items). Property disposal records.

10. Department of Veterans Affairs, Veterans Health Administration (N1-15-02-5, 42 items, 42 temporary items). Records of the Nuclear Medicine Service including reports, inspection surveys, safety and compliance documents, directives, training records, and records documenting the use and disposal of radioactive materials.

11. Department of Veterans Affairs, Veterans Health Administration (DAA-0015-2014-0001, 7 items, 6 temporary items). Records of inquiries or investigations into research misconduct, including working papers and duplicates maintained in regional offices. Proposed for permanent retention are records of significant investigations and investigations resulting in researcher debarment.

12. Department of Veterans Affairs, Veterans Health Administration (DAA-0015-2014-0002, 1 item, 1 temporary item). Master files of an electronic information system containing records relating to patient care activities, potential risks, and corrective actions.

13. Administrative Office of the United States Courts, United States District Courts (DAA-0021-2014-0001, 4 items, 4 temporary items). Human resources management records including performance evaluations and awards and bonuses files.

14. Environmental Protection Agency, Agency-wide (DAA-0412-2013-0005, 3 items, 2 temporary items). Records relating to the development, tracking, and amendment of legislative proposals through Congress, as well as other activities supporting the relationship between the agency and Congress. Proposed for permanent retention are historically significant legislative relations records, including legislative history files and reports to Congress and the President.

15. Nuclear Regulatory Commission, Office of Federal and State Materials and Environmental Management Programs (N1-431-08-4, 7 items, 5 temporary items). Records relating to decommissioning nuclear sites. Proposed for permanent retention are master files of an electronic information system relating to terminated licenses and decommissioning of nuclear sites, and related annual publications.

16. Office of Personnel Management, Employee Services (DAA-0478-2014-0002, 1 item, 1 temporary item). Master files of an electronic information system containing biographic information on individuals participating in the Federal coaching network.

17. Office of Personnel Management, Human Resources Solutions (DAA-0478-2012-0010, 1 item, 1 temporary item). Master files of an electronic information system containing customized job vacancy announcements.

Dated: May 7, 2014.
Paul M. Wester, Jr.,
Chief Records Officer for the U.S. Government.

[FR Doc. 2014-10927 Filed 5-12-14; 8:45 am]

BILLING CODE 7515-01-P